DEPARTMENT OF TRANSPORTATION

Federal Railroad Administration

[Docket No. FRA-1999-6439, Notice No. 11]

RIN 2130-AA71

Use of Locomotive Horns at Highway-Rail Grade Crossings

AGENCY: Federal Railroad Administration (FRA), Department of Transportation (DOT).

ACTION: Notice of determination.

SUMMARY: FRA's Interim Final Rule on the Use of Locomotive Horns at Highway-Rail Grade Crossings provides for annual recalculation of the Nationwide Significant Risk Threshold (NSRT). The NSRT is a number reflecting the measure of risk, calculated on a nationwide basis, which reflects the average level of risk to the motoring public at public highway-rail grade crossings equipped with flashing lights and gates at which locomotive horns are sounded. The newly recalculated NSRT is 16,988.

FOR FURTHER INFORMATION CONTACT: Ron Ries, Office of Safety, FRA, 1120 Vermont Avenue, NW.,Washington, DC 20590 (telephone: 202-493-6299); or Kathryn Shelton, Office of Chief Counsel, FRA, 1120 Vermont Avenue, NW., Washington, DC 20590 (telephone: 202-493-6038).

SUPPLEMENTARY INFORMATION: On December 18, 2003, FRA published in the Federal Register (68 FR 70586) an interim final rule requiring that a locomotive horn be sounded while a train is approaching and entering a public highway-rail crossing. The rules also provide for an exception to the above requirement in circumstances in which there is not a significant risk of loss of life or serious personal injury, use of the locomotive horn is impractical, or safety measures fully compensate for the absence of the warning provided by the horn.

As provided in the Interim Final Rule, the NSRT is a number reflecting the measure of risk, calculated on a nationwide basis, which reflects the average level of risk to the motoring public at public highway-rail grade crossings equipped with flashing lights and gates at which locomotive horns are sounded. This number is used in the determination of whether quiet zones may be created under the terms of the Interim Final Rule.

Although the Interim Final Rule is not effective until December 18, 2004, FRA is providing an update of the NSRT at this time to assist communities in their planning efforts. Accordingly, in accordance with the terms of the Interim Final Rule, FRA has calculated the NSRT to be 16,988.

Issued in Washington, DC on February 3, 2004.
Grady C. Cothen, Jr.,
Deputy Associate Administrator for Safety Standards and Program Development.

[FR Doc. 04-2637 Filed 2-5-04; 8:45 am]

BILLING CODE 4910-06-P